DEPARTMENT OF LABOR

Employment and Training Administration

Investigations Regarding Certifications of Eligibility To Apply for Worker Adjustment Assistance and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 10, 2008.

Interested persons are invited to submit written comments regarding the subject matter of the investigations to the Director, Division of Trade Adjustment Assistance, at the address shown below, not later than March 10, 2008.

The petitions filed in this case are available for inspection at the Office of the Director, Division of Trade Adjustment Assistance, Employment and Training Administration, U.S. Department of Labor, Room C-5311, 200 Constitution Avenue, NW., Washington, DC 20210.

Signed at Washington, DC, this 14th day of February 2008.
Ralph DiBattista,
Director, Division of Trade Adjustment Assistance.

Appendix.—TAA Petitions Instituted Between 2/4/08 and 2/8/08
TA-W | Subject firm (petitioners) | Location | Date of institution | Date of petition
62793 | J.H.L. Fashion, Inc. (Comp) | New York, NY | 02/04/08 | 01/31/08
62794 | Franklin Electric Company (State) | Siloam Springs, AR | 02/04/08 | 02/04/08
62795 | McNeil-PPC, Inc. (Comp) | Lititz, PA | 02/04/08 | 02/01/08
62796 | Manosh-Hardwoods, LLC (Comp) | Morrisville, VT | 02/04/08 | 01/23/08
62797 | Andin International, Inc. (Wkrs) | New York, NY | 02/04/08 | 02/02/08
62798 | TAC Automotive Group/Bartech Group (Wkrs) | Oak Creek, WI | 02/04/08 | 01/16/08
62799 | Cooper Power Systems (State) | Greenwood, SC | 02/05/08 | 02/04/08
62800 | Wilkins, Kaiser and Olsen, Inc. (Comp) | Carson, WA | 02/05/08 | 01/31/08
62801 | Taylor-Made/ Division of Adidas (State) | West Minister, SC | 02/05/08 | 01/25/08
62802 | Shorewood Packaging (State) | Edison, NJ | 02/05/08 | 02/04/08
62803 | Albany International Forming Fabrics (Comp) | Montgomery, AL | 02/05/08 | 02/01/08
62804 | Hp Pelzer Automotive Systems (Comp) | Thomson, GA | 02/06/08 | 01/09/08
62805 | American Standard Building Systems (Wkrs) | Martinsville, VA | 02/06/08 | 02/05/08
62806 | Ametek, Measurement and Calibration Technologies (Comp) | Bartow, FL | 02/06/08 | 01/31/08
62807 | Magna Donnelly Engineered Glass (State) | Holland, MI | 02/06/08 | 02/05/06
62808 | Brunswick Bowling and Billiard Corporation (State) | Muskegon, MI | 02/07/08 | 02/06/08
62809 | Edwards Vacuum, Inc. (State) | Wilmington, MA | 02/07/08 | 02/04/08
62810 | BioTech Industries, LLC (Comp) | Newton, NC | 02/07/08 | 02/06/08
62811 | Standhardt Chemical Corporation (Wkrs) | Grand Rapids, MI | 02/07/08 | 02/06/08
62812 | TTX Company (State) | Chicago, IL | 02/07/08 | 02/05/08
62813 | The Hershey Company (Union) | Oakdale, CA | 02/08/08 | 02/06/08
62814 | Tricon Industries, Inc. (Comp) | Downers Grove, IL | 02/08/08 | 02/07/08
62815 | R and G Mold and Engineering, Inc. (Comp) | Grandville, MI | 02/08/08 | 01/31/08
62816 | FMC Corporation (Comp) | Baltimore, MD | 02/08/08 | 02/07/08
62817 | Lincoln Brass Works (AFLCIO) | Waynesboro, TN | 02/08/08 | 02/06/08
62818 | Newpage Corporation (Comp) | Chillicothe, OH | 02/08/08 | 02/07/08
62819 | Robert Half Management Resources (State) | Southfield, MI | 02/08/08 | 02/06/08
62820 | Huntsman International, LLC/Textile Effects Div. (Wkrs) | High Point, NC | 02/08/08 | 02/05/08
62821 | Ameridrives International Coupling Products (Wkrs) | Erie, PA | 02/08/08 | 02/06/08

[FR Doc. E8-3791 Filed 2-28-08; 8:45 am]

BILLING CODE 4510-FN-P